DEPARTMENT OF LABOR

5 CFR Chapter XLII

20 CFR Chapters IV, V, VI, VII, and IX

29 CFR Subtitle A and Chapters II, IV, V, XVII, and XXV

30 CFR Chapter I

41 CFR Chapters 50, 60, and 61

48 CFR Chapter 29

Retrospective Review and Regulatory Flexibility

AGENCY: Office of the Secretary, Labor.

ACTION: Request for information; extension of comment period.

SUMMARY: On February 3, 2015, the Department of Labor (DOL or the Department) published a Request for Information (RFI) in response to Executive Order 13563 on improving regulation and regulatory review, and Executive Order 13610 on identifying and reducing regulatory burden. The RFI invited public comment on how the Department can improve any of its significant regulations by modifying, streamlining, expanding, or repealing them. The comment period ended on February 25, 2015, and was subsequently extended to March 18, 2015. This extension further extends the date to comment on the RFI.

DATES: The comment period for the Request for Information published on February 3, 2015, at 80 FR 5715, and on March 3, 2015 at 80 FR 11334 is extended from March 18, 2015 to April 1, 2015. Comments must be received on or before April 1, 2015. The Department is accepting all comments received between February 25, 2015 and April 1, 2015.

ADDRESSES: You may submit comments through the Department's Regulations Portal at http://www.dol.gov/regulations/regreview.

All comments will be available for public inspection at http://www.dol.gov/regulations/regreview.

FOR FURTHER INFORMATION CONTACT: Pamela Peters, Program Analyst, Office of the Assistant Secretary for Policy, U.S. Department of Labor, 200 Constitution Avenue NW., Room S-2312, Washington, DC 20210, peters.pamela@dol.gov (202) 693-5959 (this is not a toll-free number). Individuals with hearing impairments may call 1-800-877-8339 (TTY/TDD).

SUPPLEMENTARY INFORMATION: On January 18, 2011, President Obama issued Executive Order 13563, “Improving Regulation and Regulatory Review.” The Order explains the Administration's goal of creating a regulatory system that protects “public health, welfare, safety, and our environment while promoting economic growth, innovation, competitiveness, and job creation” while using “the best, most innovative, and least burdensome tools to achieve regulatory ends.” After receipt and consideration of comments, the Department issued its Plan for Retrospective Analysis of Existing Rules in August 2011. On May 12, 2012, President Obama issued Executive Order 13610, “Identifying and Reducing Regulatory Burdens.” This Order explained that “it is particularly important for agencies to conduct retrospective analyses of existing rules to examine whether they remain justified and whether they should be modified or streamlined in light of changed circumstances, including the rise of new technologies.”

Request for Comments

The Department recognizes the importance of conducting retrospective review of regulations and is once again seeking public comment on how the Department can increase the effectiveness of its significant regulations while minimizing the burden on regulated entities. The Department recognizes that the regulated community, academia, and the public at large have an understanding of its programs and their implementing regulations, and therefore is requesting public comment on how the Department can prepare workers for better jobs, improve workplace safety and health, promote fair and high-quality work environments, and secure a wide range of benefits for employees and those who are seeking work, all in ways that are more effective and least burdensome.

This request for public input will inform development of the Department's future plans to review its existing significant regulations. To facilitate receipt of the information, the Department has created an Internet portal specifically designed to capture your input and suggestions, http://www.dol.gov/regulations/regreview/. The portal contains a series of questions to gather information on how DOL can best meet the requirements of the Executive Order. The portal will be open to receive comments until April 1, 2015.

Please note that these questions do not pertain to DOL rulemakings currently open for public comment. To comment on an open rulemaking, please visit regulations.gov and submit comments by the deadline indicated in that rulemaking. Comments that pertain to rulemakings currently open for public comment will not be addressed by the Department in this venue, which focuses on retrospective review.

The Department will consider public comments as we update our plan to review the Department's significant rules. The Department is issuing this request solely to seek useful information as we update our review plan. While responses to this request do not bind the Department to any further actions related to the response, all submissions will be made available to the public on http://www.dol.gov/regulations/regreview/.

Authority: E.O. 13653, 76 FR 3821, Jan. 21, 2011; E.O. 12866, 58 FR 51735, Oct. 4, 1993.

Dated: March 18, 2015.
Mary Beth Maxwell,
Principal Deputy Assistant Secretary for Policy.

[FR Doc. 2015-06762 Filed 3-25-15; 8:45 am]

BILLING CODE 4510-23-P